DEPARTMENT OF ENERGY

Federal Energy Regulatory Commission

[Project No. 14716-000]

Water District No. 1 of Johnson County, KS; Notice of Preliminary Permit Application Accepted for Filing and Soliciting Comments, Motions To Intervene, and Competing Applications

On September 30, 2015, Water District No. 1 of Johnson County, KS filed an application for a preliminary permit under section 4(f) of the Federal Power Act proposing to study the feasibility of the proposed WaterOne Kansas River Hydroelectric Project No. 14716-000, to be located at the existing WaterOne Kansas River Weir on the Kansas River, near the town of Kanas City, in Wyandotte County, Kansas. The WaterOne Kansas River Weir is owned by the Water District No.1 of Johnson County, KS.

The proposed project would consist of: (1) An existing 1,284-foot-long weir structure comprised of eighteen 54-foot-diameter substrate filled, concrete capped cells; (2) a new 42-foot-long, 72-foot-wide reinforced concrete powerhouse containing two 550-kilowatt vertical Kaplan hydropower turbine-generators having a total combined generating capacity of 1.1 megawatts; (3) a new 20-foot-long by 20-foot-wide switchyard containing a 480 volt(V) to 2,400V step-up transformer; (4) a new 400 to 500-foot-long, 2,400V underground transmission line; and (5) appurtenant facilities. The project would have an estimated annual generation of 7,700,000 kilowatt-hours.

Applicant Contact: Mr. Michael J. Armstrong, 10747 Renner Boulevard, Lenexa, KS 66219; telephone (913) 895-5500.

FERC Contact: Tyrone A. Williams, (202) 502-6331.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14716-000.

More information about this project, including a copy of the application, can be viewed or printed on the “eLibrary” link of Commission's Web site at http://www.ferc.gov/docs-filing/elibrary.asp. Enter the docket number (P-14716) in the docket number field to access the document. For assistance, contact FERC Online Support.

Dated: December 31, 2015.
Nathaniel J. Davis, Sr.,
Deputy Secretary.

[FR Doc. 2016-00100 Filed 1-7-16; 8:45 am]

BILLING CODE 6717-01-P